DEPARTMENT OF COMMERCE

Foreign-Trade Zones Board

[Docket 29-2011]

Foreign-Trade Zone 141—County of Monroe, New York; Application for Reorganization Under Alternative Site Framework

An application has been submitted to the Foreign-Trade Zones (FTZ) Board (the Board) by the County of Monroe, grantee of FTZ 141, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on April 28, 2011.

FTZ 141 was approved by the Board on April 2, 1987 (Board Order 355, 52 FR 12219, 4/15/87) and expanded on April 23, 1996 (Board Order 813, 64 FR 20791, 05/08/96) and on June 9, 2005 (Board Order 1396, 70 FR 36116, 06/22/05).

The current zone project includes the following sites: Site 1 (10 acres)—401 Pixley Road, Gates; Site 2 (8 acres)—Monroe FTZ Operators, Inc. warehouse facilities, 39 Breck Street, Rochester; Site 3 (14 acres)—10 Carriage Street, Honeoye Falls; Site 4 (38 acres)—200 Carlson Road, Rochester; Site 5 (5 acres)—Monroe FTZ Operators, Inc. warehouse facilities, 655-C Basket Road, Webster; Site 6 (5 acres)—111 Commerce Drive, Rochester; Site 7 (3 acres)—10 Thruway Park, West Henrietta; Site 8 (2.2 acres)—1698 Lyell Avenue, Rochester; Site 9 (0.6 acres)—Supply Chain Services warehouse, 847 West Avenue, Building 10, Rochester; Site 10 (2 acres)—Liberty Precision Industries' warehouse complex, 3025 Winton Road South, Rochester; and, Site 11 (314 acres)—Rochester Technology Park, 789 Elmgrove Road, Rochester.

The grantee's proposed service area under the ASF would be Monroe County, New York, as described in the application. If approved, the grantee would be able to serve sites throughout the service area based on companies' needs for FTZ designation. The proposed service area is within and adjacent to the Rochester Customs and Border Protection port of entry.

The applicant is requesting authority to reorganize its existing zone project under the ASF as follows: Sites 2, 5, and 9 would become “magnet” sites and Sites 1, 3, 4, 6, 7, 8, 10, and 11 would be removed. The applicant is also requesting approval of the following initial “usage-driven” site: Proposed Site 12 (7 acres), Firth Rixson Inc. d/b/a Firth Rixson Monroe, 181 McKee Road, Rochester.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is July 5, 2011. Rebuttal comments in response to material submitted during the foregoing period may be submitted during the subsequent 15-day period to July 18, 2011.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Kathleen Boyce at Kathleen.Boyce@trade.gov or (202) 482-1346.

Dated: April 28, 2011.
Andrew McGilvray,
Executive Secretary.

[FR Doc. 2011-10887 Filed 5-3-11; 8:45 am]

BILLING CODE P